DEPARTMENT OF TRANSPORTATION

Federal Motor Carrier Safety Administration

[Docket No. FMCSA-2016-0030]

Qualification of Drivers; Exemption Applications; Vision

AGENCY: Federal Motor Carrier Safety Administration (FMCSA), DOT.

ACTION: Notice of applications for exemptions; request for comments.

SUMMARY: FMCSA announces receipt of applications from 18 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before August 11, 2016. All comments will be investigated by FMCSA. The exemptions will be issued the day after the comment period closes.

ADDRESSES: You may submit comments bearing the Federal Docket Management System (FDMS) Docket No. FMCSA-2016-0030 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 18 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Travis A. Beckum

Mr. Beckum, 29, has had optic atrophy in his right eye since childhood. The visual acuity in his right eye is counting fingers, and in his left eye, 20/20. Following an examination in 2016, his optometrist stated, “I feel Mr. Beckum is safe to operate a commercial motor vehicle given the vision we tested today.” Mr. Beckum reported that he has driven tractor-trailer combinations for 3 years, accumulating 79,500 miles. He holds a Class AM CDL from Georgia. His driving record for the last 3 years shows no crashes and no convictions for moving violations in a CMV.

Steve Benton

Mr. Benton, 53, has had a prosthetic left eye since childhood. The visual acuity in his right eye is 20/20, and in his left eye, no light perception. Following an examination in 2015, his optometrist stated, “I certify that Mr. Steve Benton has sufficient vision to perform the driving task required to operate a commercial vehicle.” Mr. Benton reported that he has driven straight trucks for 5 years, accumulating 75,000 miles. He holds an operator's license from Texas. His driving record for the last 3 years shows no crashes and no convictions for moving violations in a CMV.

Caleb E. Boulware

Mr. Boulware, 33, has a prosthetic left eye due to a traumatic incident in childhood. The visual acuity in his right eye is 20/20, and in his left eye, no light perception. Following an examination in 2016, his optometrist stated, “If the findings submitted are sufficient for DOT requirements for CDL [sic] then in my opinion Mr. Boulware has sufficient vision to perform the driving tasks required to operate a commercial vehicle.” Mr. Boulware reported that he has driven straight trucks for 17 years, accumulating 68,000 miles. He holds a Class B CDL from Kansas. His driving record for the last 3 years shows no crashes and no convictions for moving violations in a CMV.

David E. Campbell

Mr. Campbell, 57, has had exotropia and amblyopia in his left eye since childhood. The visual acuity in his right eye is 20/25, and in his left eye, 20/400. Following an examination in 2016, his ophthalmologist stated that Mr. Campbell does have sufficient vision to perform the driving tasks required to operate a CMV. Mr. Campbell reported that he has driven straight trucks for 36 years, accumulating 2.88 million miles, and tractor-trailer combinations for 36 years, accumulating 3.24 million miles. He holds a Class AM CDL from New York. His driving record for the last 3 years shows no crashes and no convictions for moving violations in a CMV.

James G. Cothren

Mr. Cothren, 49, has had a prosthetic right eye since birth. The visual acuity in his right eye is no light perception, and in his left eye, 20/20. Following an examination in 2016, his optometrist stated, “In my opinion, this patient has sufficient vision to perform the driving tasks required to operate a commercial vehicle.” Mr. Cothren reported that he has driven straight trucks for 5 years, accumulating 125,000 miles, and tractor-trailer combinations for 20 years, accumulating 2 million miles. He holds a Class A CDL from Georgia. His driving record for the last 3 years shows no crashes and no convictions for moving violations in a CMV.

Nenad Harnos

Mr. Harnos, 41, has a corneal scar in his left eye due to a traumatic incident in 2000. The visual acuity in his right eye is 20/20, and in his left eye, counting fingers. Following an examination in 2016, his optometrist stated, “His right eye meets all criteria for a CDL.” Mr. Harnos reported that he has driven straight trucks for 3 years, accumulating 195,000 miles. He holds an operator's license from New Jersey. His driving record for the last 3 years shows no crashes and no convictions for moving violations in a CMV.

Matthew D. Hormann

Mr. Hormann, 41, has a retinal scar in his right eye due to a traumatic incident in 1992. The visual acuity in his right eye is counting fingers, and in his left eye, 20/20. Following an examination in 2016, his optometrist stated, “I feel with Matts [sic] record of driving and his past 24 years of driving with this central vision loss OD he should qualify for an exemption and be given a CDL certificate.” Mr. Hormann reported that he has driven straight trucks for 25 years, accumulating 27,500 miles, and tractor-trailer combinations for 22 years, accumulating 220,000 miles. He holds a Class A CDL from Minnesota. His driving record for the last 3 years shows no crashes and no convictions for moving violations in a CMV.

James W. Jones

Mr. Jones, 63, has had amblyopia in his right eye since childhood. The visual acuity in his right eye is 20/70, and in his left eye, 20/20. Following an examination in 2016, his optometrist stated, “I do not believe that Mr. Jones [sic] vision will affect his ability to operate a commercial vehicle especially since his visual field is full and left eye is correctable to 20/20.” Mr. Jones reported that he has driven straight trucks for 37 years, accumulating 550,000 miles, and tractor-trailer combinations for 18 years, accumulating 540,000 miles. He holds an operator's license from Alabama. His driving record for the last 3 years shows no crashes and no convictions for moving violations in a CMV.

Louis M. Jones

Mr. Jones, 40, has a prosthetic left eye due to a traumatic incident in 2006. The visual acuity in his right eye is 20/20, and in his left eye, no light perception. Following an examination in 2016, his optometrist stated, “Based on the criteria necessary to operate a commercial motor vehicle by the Federal Motor Carrier Safety Administration, it is my medical opinion that Mr. Jones meets the requirements in the right eye.” Mr. Jones reported that he has driven straight trucks for 3 years, accumulating 150,000 miles. He holds a chauffer's license from Louisiana. His driving record for the last 3 years shows no crashes and no convictions for moving violations in a CMV.

Duane R. Martin

Mr. Martin, 53, has a prosthetic right eye due to a traumatic incident in childhood. The visual acuity in his right eye is no light perception, and in his left eye, 20/20. Following an examination in 2016, his optometrist stated, “My medical opinion is that Mr. Duane Martin has sufficient vision in his left eye to perform the driving tasks required to operate his commercial vehicle.” Mr. Martin reported that he has driven straight trucks for 20 years, accumulating 600,000 miles, and tractor-trailer combinations for 4 years, accumulating 100,000 miles. He holds a Class AM CDL from Pennsylvania. His driving record for the last 3 years shows no crashes and no convictions for moving violations in a CMV.

Roger S. Orr

Mr. Orr, 49, has a cataract in his left eye due to a traumatic incident in childhood. The visual acuity in his right eye is 20/20, and in his left eye, counting fingers. Following an examination in 2016, his optometrist stated, “At this time, I do feel that Roger Orr has sufficient vision to perform the driving tasks required to operate a commercial vehicle.” Mr. Orr reported that he has driven straight trucks for 6 years, accumulating 138,000 miles. He holds a Class A CDL from Iowa. His driving record for the last 3 years shows no crashes and no convictions for moving violations in a CMV.

Johnny A. Peery, Jr.

Mr. Peery, 50, has had a prosthetic left eye since 2001. The visual acuity in his right eye is 20/25, and in his left eye, no light perception. Following an examination in 2015, his optometrist stated, “Pt [sic] has sufficient vision to operate a commercial vehicle.” Mr. Peery reported that he has driven straight trucks for 31 years, accumulating 620,000 miles, and tractor-trailer combinations for 31 years, accumulating 775,000 miles. He holds a Class AM CDL from Maryland. His driving record for the last 3 years shows no crashes and no convictions for moving violations in a CMV.

J.W. Ray

Mr. Ray, 72, has a retinal scar in his left eye due to a traumatic incident in 1953. The visual acuity in his right eye is 20/20, and in his left eye, 20/200. Following an examination in 2016, his optometrist stated, “In my medical opinion Mr. Ray has the visual capability to operate a commercial vehicle.” Mr. Ray reported that he has driven tractor-trailer combinations for 40 years, accumulating 1.81 million miles. He holds a Class A CDL from Idaho. His driving record for the last 3 years shows no crashes and no convictions for moving violations in a CMV.

Richard D. Shryock

Mr. Shryock, 48, has had amblyopia in his right eye since birth. The visual acuity in his right eye is 20/400, and in his left eye, 20/20. Following an examination in 2016, his ophthalmologist stated, “I certify in my medical opinion that Mr. Shryock has sufficient vision to perform the driving tasks required to operate a commercial vehicle.” Mr. Shryock reported that he has driven straight trucks for 30 years, accumulating 900,000 miles, and tractor-trailer combinations for 24 years, accumulating 1.68 million miles. He holds a Class A CDL from Missouri. His driving record for the last 3 years shows no crashes and no convictions for moving violations in a CMV.

Steven D. Sodders

Mr. Sodders, 64, has had complete loss of vision in his right eye since 2009 due to melanoma. The visual acuity in his right eye is no light perception, and in his left eye, 20/20. Following an examination in 2016, his ophthalmologist stated, “In my opinion, the patient has sufficient vision to perform the driving tasks required to operate a commercial vehicle.” Mr. Sodders reported that he has driven straight trucks for 37 years, accumulating 426,240 miles. He holds an operator's license from Ohio. His driving record for the last 3 years shows no crashes and no convictions for moving violations in a CMV.

Jerry M. Stearns, Jr.

Mr. Stearns, 34, has had a central scotoma in his left eye since 2008. The visual acuity in his right eye is 20/15, and in his left eye, counting fingers. Following an examination in 2016, his optometrist stated, “Mr. Stearns has sufficient vision and visual fields to operate a commercial vehicle.” Mr. Stearns, reported that he has driven straight trucks for 18 years, accumulating 540,000 miles. He holds an operator's license from Arkansas. His driving record for the last 3 years shows no crashes and no convictions for moving violations in a CMV.

Keith R. Tyler

Mr. Tyler, 40, has had panuveitis in his left eye since childhood. The visual acuity in his right eye is 20/15, and in his left eye, no light perception. Following an examination in 2015, his ophthalmologist stated, “I certify in my medical opinion that Mr. Keith Tyler has sufficient vision to perform the driving tasks required to operate a commercial vehicle.” Mr. Tyler reported that he has driven buses for 19 years, accumulating 190,000 miles. He holds a Class B CDL from North Carolina. His driving record for the last 3 years shows no crashes and no convictions for moving violations in a CMV.

James L. Yingst

Mr. Yingst, 53, has had blindness in his right eye due to a traumatic incident in childhood. The visual acuity in his right eye is light perception, and in his left eye, 20/20. Following an examination in 2015, his optometrist stated, “After performing a visual examination of Mr. Yingst it is in my professional opinion he is visually able to safely operate a commercial vehicle.” Mr. Yingst reported that he has driven tractor-trailer combinations for 30 years, accumulating 360,000 miles. He holds a Class A CDL from Illinois. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0030 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0030 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: June 29, 2016.
Larry W. Minor,
Associate Administrator for Policy.

[FR Doc. 2016-16430 Filed 7-11-16; 8:45 am]

BILLING CODE 4910-EX-P